DEPARTMENT OF ENERGY

Federal Energy Regulatory Commission

[Project No. 6689-018]

Briar Hydro Associates, LLC; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 6689-018.

c. Date Filed: November 30, 2022.

d. Applicant: Briar Hydro Associates.

e. Name of Project: Penacook Upper Falls Hydroelectric Project.

f. Location: On the Contoocook River, in City of Concord, and Town of Boscawen, Merrimack County, New Hampshire. No federal lands are located within the project boundary.

g. Filed Pursuant to: Federal Power Act 16 U.S.C. 791(a)-825(r).

h. Applicant Contact: Andrew J. Locke, Essex Hydro Associates, LLC, 55 Union Street, Boston, MA 02108; (617) 357-0032; email—alocke@essexhydro.com.

i. FERC Contact: Jeanne Edwards at (202) 502-6181; or jeanne.edwards@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 29, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Penacook Upper Falls Project (P-6689-018).

m. The application is not ready for environmental analysis at this time.

n. The Penacook Upper Falls Project consists of the following existing facilities: (1) an impoundment with a surface area of 11.4-acres at an elevation of 306.0 feet above National Geodetic Vertical Datum 1929; (2) a 21-foot-high, 187-foot-long timber stoplog dam with a gated concrete spillway ; (3) a 58-foot-wide, 15-foot-long forebay; (4) a 12.5-foot-wide, 39.3-foot-high trashrack with 3.5-inch clear spacing; (5) a 44-foot-wide by 81-foot-long, concrete powerhouse, integral to the dam, containing one Kaplan turbine generating unit with a capacity of 3.02 megawatts; (6) a 350-foot-long, 47-foot-wide tailrace; (7) transmission facilities consisting of a 4.16/34.5- kilovolt (kV) transformer and a 50-foot-long, 34.5-kV transmission line; and (8) other appurtenances.

The project operates in a run-of-river mode and had an average annual generation of 13,825,011 kilowatt-hours between 2012 and 2021. No changes to the project are proposed.

o. Copies of the application may be viewed on the Commission's website at http://www.ferc.gov using the “eLibrary” link. Enter the docket number excluding the last three digits in the docket number field to access the document (P-6689). For assistance, contact FERC Online Support at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—February 2023

Request Additional Information (if necessary)—March 2023

Issue Acceptance Letter—May 2023

Issue Scoping Document 1 for comments—May 2023

Issue Scoping Document 2 (if necessary)—August 2023

Issue Notice of Ready for Environmental Analysis August—2023

q. Final amendments to the application must be filed with the Commission no later than 30 days from the issuance date of the notice of ready for environmental analysis.

Dated: December 14, 2022.
Kimberly D. Bose,
Secretary.

[FR Doc. 2022-27586 Filed 12-19-22; 8:45 am]

BILLING CODE 6717-01-P